DEPARTMENT OF JUSTICE

Civil Rights Division

Agency Information Collection Activities Under Review: Proposed Collection; Comments Requested

ACTION: 60-day notice of information collection under review: Nondiscrimination on the basis of disability in State and local government services (transition plan).

The Department of Justice, Civil Rights Division, has submitted the following information collection request to the Office of Management and Budget for review and approval in accordance with the Paperwork Reduction Act of 1995. The information collection extension is published to obtain comments from the public and affected agencies. Comments are encouraged and will be accepted until March 8, 2004. This process is conducted in accordance with 5 CFR 1320.10.

Written comments and suggestions from the public and affected agencies concerning the extension of a currently approved collection of information are encouraged. Your comments should address one or more of the following four points:

(1) Evaluate whether the collection of information is necessary for the proper performance of the function of the agency, including whether the information will have practical utility;

(2) Evaluate the accuracy of the agency's estimate of the burden of the collection of information;

(3) Enhance the quality, utility, and clarity of the information to be collected; and

(4) Minimize the burden of the collection of information on those who are to respond, including through the use of appropriate automated, electronic, mechanical, or other technological collection techniques or other forms of information technology (e.g., permitting electronic submission of responses).

Comments and/or suggestions regarding the item(s) contained in this notice, especially regarding the estimated public burden and associated response time should be directed to John Wodatch. If you have additional comments, suggestions, or need a copy of the proposed information collection instrument with instructions, or additional information, contact John Wodatch, Chief, Disability Rights Section, Civil Rights Division, by calling (800) 514-0301 (Voice) or (800) 514-0383 (TTY) (the Division's ADA Information Line), or write him at U.S. Department of Justice, Civil Rights Division, Disability Rights Section NYA, 950 Pennsylvania Avenue, NW., Washington, DC 20530.

The information collection is listed below:

(1) Type of information collection: Extension of currently approved collection.

(2) The title of the form/collection: Nondiscrimination on the Basis of Disability in State and Local Government Services (Transition Plan).

(3) The agency form number and applicable component of the Department sponsoring the collection: No form number. Disability Rights Section, Civil Rights Division, U.S. Department of Justice.

(4) Affected public who will be asked to respond, as well as a brief abstract: Primary: State, local or tribal government. Under title II of the Americans with Disabilities Act, State and local governments are required to operate each service, program, or activity so that the service, program, or activity, when viewed in its entirety, is readily accessible to and usable by individuals with disabilities (“program accessibility”). If structural changes to existing facilities are necessary to accomplish program accessibility, a public entity that employs 50 or more persons must develop a “transition plan” setting forth the steps necessary to complete the structural changes. A copy of the transition plan must be made available for public inspection.

(5) An estimate of the total number of respondents and the amount of time estimated for an average respondent to respond: It is anticipated that 4,000 respondents will complete the transition plan within 8 hours.

(6) An estimate of the total public burden (in hours) associated with the collection: 32,000 hours annual burden.

If additional information is required contact: Ms. Brenda Dyer, Deputy Clearance Officer, United States Department of Justice, Policy and Planning Staff, Justice Management Division, Patrick Henry Building, Suite 1600, 601 D Street, NW., Washington, DC 20530.

Dated: December 29, 2003.
Brenda E. Dyer,
Deputy Clearance Officer, Department of Justice.

[FR Doc. 04-173 Filed 1-5-04; 8:45 am]

BILLING CODE 4410-13-P